DEPARTMENT OF ENERGY

Federal Energy Regulatory Commission

[Docket No. RP01-416-000]

Northwest Pipeline Corp.; Notice of Proposed Changes in FERC Gas Tariff

May 17, 2001.

Take notice that on May 14, 2001, Northwest Pipeline Corporation (Northwest) tendered for filing as part of its FERC Gas Tariff, Third Revised Volume No. 1, the following tariff sheets, to be effective June 14, 2001:

1st Rev Third Revised Sheet No. 255

1st Rev Third Revised Sheet No. 256

Northwest states that the purpose of this filing is to propose revisions to Northwest's tariff to provide for the equitable sharing of lateral facility costs between a shipper for whom a lateral facility was initially constructed and a third-party shipper that has requested service on a relatively inexpensive expansion of the original lateral facility.

Northwest states that a copy of this filing has been served upon Northwest's customers and upon interested state regulatory commissions.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-12958 Filed 5-22-01; 8:45 am]

BILLING CODE 6717-07-M